UNITED STATES SENTENCING COMMISSION

Sentencing Guidelines for United States Courts

AGENCY: United States Sentencing Commission.

ACTION: Notice of extension of deadline for public comment regarding the proposed amendment to the sentencing guidelines and commentary published on August 17, 2015 (80 FR 49314).

SUMMARY: On August 17, 2015, the United States Sentencing Commission published a notice in the Federal Register (80 FR 49314) requesting comment regarding a proposed amendment to the sentencing guidelines and commentary. The proposed amendment and issues for comment published in the notice were as follows: A proposed amendment to revise the “crime of violence” and “drug trafficking offense” definitions in the career offender guideline and the illegal reentry guideline, including (A) A proposed amendment to § 4B1.2 (Definitions of Terms Used in Section 4B1.1) to delete the residual clause and revise the list of enumerated offenses in the “crime of violence” definition, (B) a proposed amendment to § 4B1.2 to implement an additional requirement related to the state felony classification in determining whether an offense qualifies as a felony under § 4B1.2, and (C) corresponding changes to the “crime of violence” and “drug trafficking offense” definitions in § 2L1.2 (Unlawfully Entering or Remaining in the United States) to bring them more into parallel with the definitions at § 4B1.2, and related issues for comment. The Commission further requested comment regarding retroactive application of the proposed amendment.

The Commission is issuing this notice to advise the public that the period for public comment has been extended to November 25, 2015. The deadline was initially November 12, 2015.

DATES: Public comment regarding the proposed amendment and issues for comment described in this notice should be received by the Commission not later than November 25, 2015.

ADDRESSES: Public comment should be sent to the Commission by electronic mail or regular mail. The email address for public comment is Public_Comment@ussc.gov. The regular mail address for public comment is United States Sentencing Commission, One Columbus Circle NE., Suite 2-500, Washington, DC 20002-8002, Attention: Public Affairs.

FOR FURTHER INFORMATION CONTACT: Office of Legislative and Public Affairs, 202-502-4500, pubaffairs@ussc.gov.

SUPPLEMENTARY INFORMATION: The United States Sentencing Commission is an independent agency in the judicial branch of the United States Government. The Commission promulgates sentencing guidelines and policy statements for federal courts pursuant to 28 U.S.C. 994(a). The Commission also periodically reviews and revises previously promulgated guidelines pursuant to 28 U.S.C. 994(o) and submits guideline amendments to the Congress not later than the first day of May each year pursuant to 28 U.S.C. 994(p).

The Commission issued a notice for public comment regarding the proposed amendment and issues for comment described in this notice on August 17, 2015 (80 FR 49314). Comment was initially due to the Commission on November 12, 2015. The Commission hereby invites additional comment from any person or group who has interest in the proposed amendment and issues for comment. Comment must be received by the Commission not later than November 25, 2015.

Additional information pertaining to the proposed amendment described in this notice may be accessed through the Commission's Web site at www.ussc.gov.

Authority: 28 U.S.C. 994(a), (o), (p), (x); USSC Rules of Practice and Procedure, Rule 4.4.

Patti B. Saris,
Chair.

[FR Doc. 2015-28879 Filed 11-12-15; 8:45 am]

BILLING CODE 2210-40-P